DEPARTMENT OF TRANSPORTATION

Federal Railroad Administration

49 CFR Part 236

[Docket No. FRA-2025-0104]

RIN 2130-AD47

Repealing a Redundant Reporting Requirement

AGENCY: Federal Railroad Administration (FRA), Department of Transportation (DOT).

ACTION: Final rule.

SUMMARY: FRA is removing one requirement from its regulations governing positive train control (PTC) systems. This rule repeals a redundant regulatory requirement for railroads to file a Report of PTC System Performance (Form FRA F 6180.152) biannually, as the Passenger Rail Expansion and Rail Safety Act of 2021 requires railroads to submit that exact report to FRA quarterly.

DATES: This rule is effective July 31, 2025.

ADDRESSES:

Comments: Comments related to Docket No. FRA-2025-0104 may be submitted by going to https://www.regulations.gov and following the online instructions for submitting comments.

Instructions: All submissions must include the agency name, docket number (FRA-2025-0104), and Regulatory Identification Number (RIN) for this rulemaking (2130-AD47). All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Gabe Neal, Staff Director, Signal, Train Control, and Crossings Division, Federal Railroad Administration, telephone: 816-516-7168, email: Gabe.Neal@dot.gov; or Stephanie Anderson, Senior Attorney, Federal Railroad Administration, telephone: 202-834-0609, email: Stephanie.Anderson@dot.gov.

SUPPLEMENTARY INFORMATION:

I. Background

Consistent with the deregulatory agenda of President Donald J. Trump and Secretary of Transportation Sean P. Duffy, which seeks to unleash America's economic prosperity without compromising transportation safety, FRA is reviewing its regulatory requirements in parts 200 through 299 of title 49, Code of Federal Regulations (CFR). The requirements for certain railroads to implement, operate, and maintain PTC systems are established in title 49 United States Code (U.S.C.) 20157, Implementation of PTC systems, and 49 CFR part 236, subpart I, PTC systems. In July 2021, FRA issued a final rule establishing, in relevant part, a reporting requirement under 49 CFR 236.1029(h), Biannual Report of PTC System Performance.¹ In November 2021, section 22414 of the Passenger Rail Expansion and Rail Safety Act of 2021 ² codified the same substantive reporting requirement as 49 CFR 236.1029(h) at 49 U.S.C. 20157(m), using the same FRA form number (Form FRA F 6180.152) and content requirements. Accordingly, as the statute imposes the same reporting requirement, FRA's regulatory reporting requirement at 49 CFR 236.1029(h) is unnecessary and redundant. Please review the section-by-section analysis below for the relevant information related to FRA's repeal of this regulatory provision.

¹ 85 FR 82400 (Dec. 18, 2020) (Notice of Proposed Rulemaking (NPRM)); 86 FR 40154 (July 27, 2021) (Final Rule).

² Public Law 117-58, 135 Stat. 429 (Nov. 15, 2021).

II. Final Rule

Under the Administrative Procedure Act, an agency may dispense with notice and comment “when the agency for good cause finds (and incorporates the finding and a brief statement of reasons therefor in the rules issued) that notice and public procedure thereon are impracticable, unnecessary, or contrary to the public interest.” 5 U.S.C. 553(b)(B). FRA has determined that issuing a final rule is the appropriate mechanism here because notice and comment are unnecessary, as FRA is merely removing a redundant reporting requirement from its regulations and not imposing any new requirements. This rulemaking still accommodates the principles of public participation as FRA previously received public comment on the pertinent reporting requirement via FRA's 2020 NPRM,³ as summarized in FRA's 2021 final rule,⁴ and FRA's additional information collection notices in 2022 regarding 49 U.S.C. 20157(m).⁵

³ 85 FR 82400 (Dec. 18, 2020).

⁴ 86 FR 40154 (July 27, 2021).

⁵ 87 FR 25346 (Apr. 28, 2022); 87 FR 44187 (July 25, 2022).

III. Section-by-Section Analysis

Section 236.1029 PTC System Use and Failures

This final rule removes existing paragraph (h) of this section as it is redundant and unnecessary. Paragraph (h) imposes a reporting requirement that is also required under a statutory provision at 49 U.S.C. 20157(m). The only substantive difference is the statutory reporting cadence is quarterly and the reporting requirement under existing paragraph (h) of this section is biannual. On September 23, 2024, FRA published the requisite notice under 49 U.S.C. 20157(m)(3)(B) to inform the public that FRA has determined it is in the public interest for railroads to continue submitting Reports of PTC System Performance (Form FRA F 6180.152) to FRA on a quarterly basis and as OMB has approved through March 31, 2027.⁶ In the future, FRA reserves the right to reduce the reporting frequency to biannual, as 49 U.S.C. 20157(m)(3) itself authorizes. Accordingly, 49 CFR 236.1029(h) is wholly unnecessary, and FRA hereby removes paragraph (h) of this section and reserves it.

⁶ 89 FR 77580 (Sept. 23, 2024).

IV. Regulatory Impact and Notices

A. Executive Order (E.O.) 12866 (Regulatory Planning and Review) and DOT Regulatory Policies and Procedures

FRA has considered the impact of this final rule under E.O. 12866, Regulatory Planning and Review (58 FR 51735, Oct. 4, 1993), and DOT Order 2100.6B, Policies and Procedures for Rulemaking (Mar. 10, 2025). The Office of Information and Regulatory Affairs within OMB determined that this final rule is not a significant regulatory action under section 3(f) of E.O. 12866.

This final rule repeals a redundant regulatory requirement (49 CFR 236.1029(h)) for railroads to file a Report of PTC System Performance (Form FRA F 6180.152) biannually, as the Passenger Rail Expansion and Rail Safety Act of 2021 requires applicable railroads to submit that exact report to FRA quarterly. FRA has concluded that this final rule imparts no additional burdens on regulated entities. Moreover, this rule will provide some qualitative benefits to regulated entities and the U.S. government, by eliminating the possibility of duplicative Reports of PTC System Performance. This rule will also eliminate confusion caused by the current redundant requirements.

B. E.O. 14192 (Unleashing Prosperity Through Deregulation)

E.O. 14192, Unleashing Prosperity Through Deregulation (90 FR 9065, Jan. 31, 2025), requires that for “each new [E.O. 14192 regulatory action] issued, at least ten prior regulations be identified for elimination.” ⁷ Implementation guidance for E.O. 14192 issued by OMB (Memorandum M-25-20, Mar. 26, 2025) defines two different types of E.O. 14192 actions: an E.O. 14192 deregulatory action, and an E.O. 14192 regulatory action.⁸

⁷ Executive Office of the President. Executive Order 14192 of January 31, 2025. Unleashing Prosperity Through Deregulation. 90 FR 9065-9067 (Feb. 6, 2025).

⁸ Executive Office of the President. Office of Management and Budget. Guidance Implementing Section 3 of Executive Order 14192, Titled “Unleashing Prosperity Through Deregulation.” Memorandum M-25-20. Mar. 26, 2025.

An E.O. 14192 deregulatory action is defined as “an action that has been finalized and has total costs less than zero.” This rulemaking is expected to have total costs less than zero, and therefore it would be considered an E.O. 14192 deregulatory action upon issuance of this rule.

C. Regulatory Flexibility Act and E.O. 13272

The Regulatory Flexibility Act of 1980 ((RFA), 5 U.S.C. 601 et seq.) and E.O. 13272 (67 FR 53461, Aug. 16, 2002) require an agency to prepare and make available to the public a regulatory flexibility analysis that describes the effect of the rule on small entities (i.e., small businesses, small organizations, and small governmental jurisdictions). A regulatory flexibility analysis is not required when a rule is exempt from notice and comment rulemaking. FRA has determined that this rule is exempt from notice and comment rulemaking. Therefore, a regulatory flexibility analysis is not required for this rule.

D. Paperwork Reduction Act

There is no new collection of information requirements contained in this final rule, and in accordance with the Paperwork Reduction Act of 1995, 44 U.S.C. 3501 et seq., an information collection submission to OMB is not required. OMB most recently approved the recordkeeping and reporting requirements in FRA's PTC regulations (49 part 236, subpart I) and Form FRA F 6180.152 (pursuant to 49 U.S.C. 20157(m)) on March 14, 2024. The OMB approval number is OMB No. 2130-0553, and OMB approval expires on March 31, 2027.

E. Environmental Assessment

FRA has analyzed this rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

Pursuant to Section 106 of the National Historic Preservation Act and its implementing regulations, FRA has determined this undertaking has no potential to affect historic properties. FRA has also determined that this rulemaking does not approve a project resulting in a use of a resource protected by Section 4(f).

F. Federalism Implications

This final rule will not have a substantial effect on the States, on the relationship between the national government and the States, or on the distribution of power and responsibilities among the various levels of government. Thus, in accordance with E.O. 13132, “Federalism” (64 FR 43255, Aug. 10, 1999), preparation of a Federalism Assessment is not warranted.

G. Unfunded Mandates Reform Act of 1995

This final rule will not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211, Actions Concerning Regulations that Significantly Affect Energy Supply, Distribution, or Use, 66 FR 28355 (May 22, 2001), requires Federal agencies to prepare a Statement of Energy Effects for any “significant energy action.” FRA has evaluated this final rule in accordance with E.O. 13211 and determined that this final rule is not a “significant energy action” within the meaning of E.O. 13211.

I. E.O. 13175 (Tribal Consultation)

FRA has evaluated this final rule in accordance with the principles and criteria contained in E.O. 13175, Consultation and Coordination with Indian Tribal Governments (Nov. 6, 2000). The final rule will not have a substantial direct effect on one or more Indian Tribes, will not impose substantial direct compliance costs on Indian Tribal governments, and will not preempt Tribal laws. Therefore, the funding and consultation requirements of E.O. 13175 do not apply, and a Tribal summary impact statement is not required.

J. International Trade Impact Assessment

The Trade Agreement Act of 1979 ⁹ prohibits Federal agencies from engaging in any standards or related activities that create unnecessary obstacles to the foreign commerce of the United States. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the United States.

⁹ 19 U.S.C. ch. 13.

List of Subjects in 49 CFR Part 236

Penalties, Positive train control, Railroad safety, Reporting and recordkeeping requirements.

The Final Rule

For the reasons discussed in the preamble, FRA amends part 236 of chapter II, subtitle B of title 49, Code of Federal Regulations as follows:

PART 236—RULES, STANDARDS, AND INSTRUCTIONS GOVERNING THE INSTALLATION, INSPECTION, MAINTENANCE, AND REPAIR OF SIGNAL AND TRAIN CONTROL SYSTEMS, DEVICES, AND APPLIANCES

1. The authority citation for part 236 continues to read as follows:

Authority: 49 U.S.C. 20102-20103, 20107, 20133, 20141, 20157, 20301-20303, 20306, 20501-20505, 20701-20703, 21301-21302, 21304; 28 U.S.C. 2461, note; and 49 CFR 1.89.

§ 236.1029 [Amended]

2. Amend § 236.1029 by removing and reserving paragraph (h):

Issued in Washington, DC.
Kyle D. Fields,
Chief Counsel.

[FR Doc. 2025-12155 Filed 6-27-25; 4:15 pm]

BILLING CODE 4910-06-P